DEPARTMENT OF THE INTERIOR

Bureau of Land Management

[UTU 85338]

Public Land Order No. 7697; Transfer of Public Land for the Crescent Junction Uranium Mill Tailings Repository; Utah; Correction

AGENCY: Bureau of Land Management, Interior.

ACTION: Correction.

SUMMARY: The Bureau of Land Management published a document in the Federal Register on March 31, 2008, transferring public land to the Department of Energy. The document contained some errors in the land description.

FOR FURTHER INFORMATION CONTACT: Mary von Koch, 435-259-2128.

Correction

This action corrects the land description in Public Land Order No. 7697 published in FR Doc. E8-6598, March 31, 2008, page 16900, column 2, as follows:

The entire legal description which reads:

“T. 21 S., R. 19 E.,

Sec. 22, SE¼SE¼SW¼;NE¼SW¼SE¼, S½SW¼SE¼, and SE¼SE¼;

Sec. 23, S½NE¼SW¼, S½NW¼SW¼, and S½SW¼;

Sec. 26, N½NW¼, N½SW¼NW¼, and NW¼SE¼NW¼;

Sec. 27, N½NE¼, SW¼NE¼, N½SE¼NE¼, SW¼SE¼NE¼, E½NE¼NW¼, and E½SE¼NW¼.” is hereby corrected to read:

“Salt Lake Meridian

T. 21 S., R. 19 E.,

Sec. 22, SE¼SE¼SW¼, NE¼SW¼SE¼, S½SW¼SE¼, and SE¼SE¼;

Sec. 23, S½S½N½SW¼, S½SW¼, and W½SW¼SW¼SE¼;

Sec. 26, W½W½NW¼NE¼, N½NW¼, N½SW¼NW¼, N½NE¼SE¼NW¼, and NW¼SE¼NW¼;

Sec. 27, N½NE¼, SW¼NE¼, N½SE¼NE¼, SW¼SE¼NE¼, E½NE¼NW¼, and E½SE¼NW¼.”

Dated: August 8, 2008.
Kent Hoffman,
Deputy State Director, Division of Land and Minerals.

2

[FR Doc. E8-18900 Filed 8-14-08; 8:45 am]

BILLING CODE 6450-01-P